DEPARTMENT OF TRANSPORTATION

Research and Special Programs Administration

49 CFR Parts 107, 171, 172, 173, 175, 176, 177, 178, 179, 180

[Docket No. RSPA-01-10374 (HM-189S)]

RIN 2137-AD60

Hazardous Materials Regulations: Editorial Corrections and Clarifications

AGENCY: Research and Special Programs Administration (RSPA), DOT.

ACTION: Final rule.

SUMMARY: This final rule corrects editorial errors, makes minor regulatory changes, and, in response to requests for clarification, improves the clarity of certain provisions in the Hazardous Materials Regulations (HMR). The intended effect of this rule is to enhance the accuracy and reduce misunderstandings of the HMR. The amendments contained in this rule are minor editorial changes and do not impose new requirements.

EFFECTIVE DATE: October 1, 2001.

FOR FURTHER INFORMATION CONTACT: Michael G. Stevens, Office of Hazardous Materials Standards, (202) 366-8553, Research and Special Programs Administration, U.S. Department of Transportation, 400 Seventh Street, SW., Washington, DC 20590-0001.

SUPPLEMENTARY INFORMATION:

Background

RSPA (we) annually reviews the HMR to identify and correct errors. Inaccuracies corrected in this final rule include typographical and printing errors, incorrect references to other rules and regulations in the CFR, inconsistent use of terminology, and misstatements of certain regulatory requirements. In response to inquiries RSPA received concerning the clarity of particular requirements specified in the HMR, certain other changes are made to reduce uncertainties.

Because these amendments do not impose new requirements, notice and public procedure are unnecessary. In addition, making these amendments effective without the customary 30-day delay following publication will allow the changes to appear in the next revision of 49 CFR.

The following is a section-by-section summary of the amendments made under this final rule. It does not discuss all minor editorial corrections (e.g., typographical, capitalization and punctuation errors), changes to legal authority citations and certain other minor adjustments to enhance the clarity of the HMR.

Section-by-Section Review

Part 107

Appendix A to Subpart D. The table in section II, Guidelines for Civil Penalties, is revised to correct typographical errors and column alignment for certain entries. No changes are made to baseline assessment dollar amounts for penalties. Also, we are adding paragraph designations to the corrected entries to facilitate our making revisions to the table in the future. Paragraph designations will be added to other entries as they are revised.

Part 171

Section 171.8. The definition of “NPT” is revised to remove an outdated CFR reference. The definition “Occupationally exposed hazmat employee” is removed. This term was exclusive to the Radiation Protection Program which was withdrawn in a previous rulemaking. In the definitions of “P.s.i.”, “P.s.i.g.”, and “P.s.i.a.”, the punctuated acronyms are removed for consistency with the changes made in a previous rulemaking (RSPA Docket No. 01-9567 (HM-189R)) that replaced these acronyms with their non-punctuated versions, i.e., “Psi”, “Psia”, “Psig”, throughout the HMR.

Section 171.15. In paragraph (b), the word “Department” is replaced with the wording “National Response Center” to reflect the correct name of the organization that receives incident notifications.

Part 172

Section 172.101. Table 1 of Appendix A to § 172.101 is revised to correct a typographical error and the subscript font in the molecular formula of three entries.

Section 172.102. Special provision 44 is revised to remove an outdated CFR reference and to correct the section reference for the testing of flammable solids. Special provision B13 is revised to remove outdated CFR references for certain cargo tank specifications.

Section 172.203. Paragraph (k) is revised to correct typographic case. Paragraph (o)(3) is revised to correct the CFR reference for samples of new self-reactive and organic peroxide materials.

Section 172.301. Paragraphs (a)(3) and (b) are revised to correct grammatical and punctuation errors.

Section 172.512. The entire heading for paragraph (b) is italicized.

Section 172.514. The entire heading for paragraph (c) is italicized.

Section 172.604. Two new shipping names adopted in a previous rulemaking (RSPA Docket No. 98-4185 (HM-215C); 64 FR 10742; March 5, 1999) are added to the list of materials excepted from emergency response telephone number requirements.

Part 173

Section 173.2a. In paragraph (b), Note 1 following the hazard precedence table is revised to refer readers to § 173.127 for the test criteria and Packing Group assignment for liquids in Division 5.1.

Section 173.4. Paragraph (a)(6) introductory text is revised to remove reference to an obsolete note. In addition, in the note to paragraph (a)(6), the heading is revised to correct typographic case.

Section 173.28. Paragraph (b)(7)(iv)(C) is revised to correct typographic case.

Section 173.33. Paragraph (c)(1)(iii) is revised to correct a punctuation error.

Section 173.34. In paragraph (d)(6), the spelling of the word “pyroforic” is revised for consistency with the spelling used in the § 172.101 Hazardous Materials Table. In addition, in paragraph (e)(13) table, the superscript is corrected in certain entries.

Section 173.50. In the paragraph (b)(6) heading, “Division 6.1” is italicized.

Section 173.59. The definition of “Cases, cartridge, empty with primer” is revised to clarify that the primer is the only explosive component in the article.

Section 173.62. Paragraph (a) is revised to correct a CFR reference cite. In addition, in the Table of Packing Methods, packaging instruction “137” is revised to correct the format of the column alignment.

Section 173.133. In paragraph (a)(2)(i), note 2 of the table is revised to correct the CFR reference for annotating inhalation hazards on shipping papers.

Section 173.166. In paragraph (a), the term “seat-belt pre-tensioner” is italicized.

Section 173.181. Paragraph (a)(2) is revised to correct a CFR reference.

Section 173.194. Paragraph (b)(1) is revised to correct a printing error.

Section 173.249. The introductory text and paragraph (a) are revised to correct typographic case and a printing error, respectively.

Section 173.301. Paragraph (d)(3) is revised to correct the typographic case for “difluoroethylene”.

Section 173.315. Paragraph (l)(6) is revised for minor clarification.

Section 173.319. Paragraph (d)(2) table is revised to correct a CFR reference.

Section 173.403. Two definitions are revised to correct a punctuation error and to remove the italicizing from a word.

Sections 173.433 and 173.435. In these sections, 11 entries are revised to correct miscellaneous typographical errors.

Section 173.469. In paragraph (c)(1)(v), the formula is corrected by adding a degree symbol. In paragraphs (d)(1) and (d)(2), the title of an International Organization for Standardization (ISO) publication that is currently incorporated by reference in § 171.7 is corrected.

Part 175

Section 175.30. Paragraphs (d)(1) and (d)(2) are revised to correct punctuation errors.

Sections 175.31, 175.75, 175.90. These sections are revised to correct grammatical and punctuation errors.

Part 176

Section 176.2. The definition “Commandant” is revised to correct the title and office symbol for the Coast Guard office that is responsible for handling the approval function.

Sections 176.30, 176.63, 176.74. These sections are revised to correct miscellaneous typographical and punctuation errors.

Section 176.76. Paragraph (d) is revised to remove an obsolete CFR reference. Paragraph (f)(2) is revised to correct the typographic case for two general hazardous material terms.

Section 176.80. The section heading is revised by replacing the word “Application” with “Applicability” for consistency with the section headings used in the other modal parts of the HMR.

Section 176.83. Three paragraphs in this section are revised to correct miscellaneous punctuation and printing errors.

Section 176.84. Paragraphs (a), (c)(1), (c)(2), and (c)(3) are revised to correct typographic case. In addition, paragraph (c)(3) is revised to correct a typographical error.

Sections 176.88, 176.95, 176.112. The section heading is revised by replacing the word “Application” with “Applicability” for consistency with the section headings used in the other modal parts of the HMR.

Sections 176.133, 176.136, 176.137, 176.194. These sections are revised to correct miscellaneous typographical and punctuation errors.

Section 176.210. A minor editorial revision is made for clarification.

Section 176.340. This section is revised to correct the title and office symbol for the Coast Guard office that is responsible for handling the approval function. ]

Section 176.415. Paragraph (c)(4) is revised to correct a typographical error.

Part 177

Section 177.840. Paragraph (e) is revised to correct a punctuation and grammatical error.

Section 177.848. Paragraph (g)(3)(iv) is revised for minor clarification.

Part 178

Section 178.35. Paragraph (f)(1)(iv) is revised to correct the typographic case for wording used in the example.

Sections 178.36, 178.38, 178.39, 178.44. These sections are revised to correct identical typographical errors.

Sections 178.45, 178.50, 178.51. These sections are revised to correct miscellaneous typographical and printing errors.

Section 178.318-3. This section is revised to correct an outdated CFR reference.

Section 178.813. Paragraphs (a) and (d) are editorially revised to reverse the sequence for clarity.

Section 178.814. Paragraph (a) is editorially revised to reverse the sequence for clarity.

Part 179

Section 179.2. The definition “NPT” is revised to correct a typographical error.

Section 179.100. The introductory text is revised to correct a typographical error.

Section 179.100-7. In paragraph (b) table, a note reference number is corrected in the column 2 heading that was inadvertently not changed when Note 6 was redesignated Note 4 in a previous rulemaking.

Sections 179.100-14 and 179.100-18. These sections are revised to correct typographic case and punctuation errors.

Section 179.101. The section heading shown as “§ 179.100” is corrected to read “§ 179.101”.

Section 179.101-1. Note 6 of the table is revised to correct a typographical error.

Section 179.102-4. Paragraph (a) is revised to correct a CFR reference that was inadvertently not changed in a previous rulemaking that redesignated other paragraphs in this section.

Section 179.103.5. Paragraph (b)(4) is revised to correct a printing error.

Section 179.200-1. This section is revised to remove an obsolete CFR reference.

Section 179.200-7. In paragraph (c) table, a note reference number is corrected in the column 2 heading that was overlooked when Notes 4 and 5 were removed and Note 6 was redesignated as Note 4 in a previous rulemaking. Paragraph (h) is revised to correct typographic case.

Sections 179.200-9, 179.200-11, 179.200-14, 179.201-3, 179.201-4, 179.201-6. These sections are revised to correct miscellaneous typographic, printing, and punctuation errors.

Section 179.220-7. The paragraph (c) table is revised to remove Notes 4 and 5 and redesignate Note 6 as Note 4. In addition, the heading of column 2 is revised to redesignate Note 6 as Note 4. A previous rulemaking removed the ASTM specification that corresponded to Notes 4 and 5.

Sections 179.300-6, 179.400-4, 179.400-17, 179.500-3, 179.500-7, 179.500-18. These sections are revised to correct miscellaneous typographic, printing, and punctuation errors.

Part 180

Section 180.352. Paragraph (b)(1) is editorially revised to reverse the sequence for clarity.

Sections 180.415, 180.511, 180.519. These sections are revised to make minor editorial corrections for clarity.

Regulatory Analyses and Notices

A. Executive Order 12866 and DOT Regulatory Policies and Procedures

This final rule is not considered a significant regulatory action under section 3(f) of Executive Order 12866 and, therefore, was not subject to review by the Office of Management and Budget. This rule is not significant according to the Regulatory Policies and Procedures of the Department of Transportation (44 FR 11034). Because of the minimal economic impact of this rule, preparation of a regulatory impact analysis or a regulatory evaluation is not warranted.

B. Executive Order 13132

This final rule has been analyzed in accordance with the principles and criteria in Executive Order 13132 (“Federalism”). Federal hazardous material transportation law, (49 U.S.C. 5101-5127) contains express preemption provisions at 49 U.S.C. 5125.

RSPA is not aware of any State, local, or Indian tribe requirements that would be preempted by correcting editorial errors and making minor regulatory changes. This final rule does not have sufficient federalism impacts to warrant the preparation of a federalism assessment.

C. Executive Order 13084

This rule has been analyzed in accordance with the principles and criteria contained in Executive Order 13084 (“Consultation and Coordination with Indian Tribal Governments”). Because this rule would not significantly or uniquely affect the communities of the Indian tribal governments, the funding and consultation requirements of this Executive Order do not apply.

D. Regulatory Flexibility Act

I certify that this final rule will not have a significant economic impact on a substantial number of small entities. This rule makes minor editorial changes which will not impose any new requirements on persons subject to the HMR; thus, there are no direct or indirect adverse economic impacts for small units of government, businesses or other organizations.

E. Unfunded Mandates Reform Act of 1995

This rule does not impose unfunded mandates under the Unfunded Mandates Reform Act of 1995. It does not result in costs of $100 million or more to either State, local, or tribal governments, in the aggregate, or to the private sector, and is the least burdensome alternative that achieves the objective of the rule.

F. Paperwork Reduction Act

Under the Paperwork Reduction Act of 1995, no person is required to respond to a collection of information unless it displays a valid OMB control number. There are no new information collection requirements in this final rule.

G. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 107

Administrative practice and procedure, Hazardous materials transportation, Packaging and containers, Penalties, Reporting and recordkeeping requirements.

49 CFR Part 171

Exports, Hazardous materials transportation, Hazardous waste, Imports, Reporting and recordkeeping requirements.

49 CFR Part 172

Education, Hazardous materials transportation, Hazardous waste, Labeling, Markings, Packaging and containers, Reporting and recordkeeping requirements.

49 CFR Part 173

Hazardous materials transportation, Packaging and containers, Radioactive materials, Reporting and recordkeeping requirements, Uranium.

49 CFR Part 175

Air carriers, Hazardous materials transportation, Radioactive materials, Reporting and recordkeeping requirements.

49 CFR Part 176

Hazardous materials transportation, Maritime carriers, Radioactive materials, Reporting and recordkeeping requirements.

49 CFR Part 177

Hazardous materials transportation, Motor carriers, Radioactive materials, Reporting and recordkeeping requirements.

49 CFR Part 178

Hazardous materials transportation, Motor vehicle safety, Packaging and containers, Reporting and recordkeeping requirements.

49 CFR Part 179

Hazardous materials transportation, Railroad safety, Reporting and recordkeeping requirements.

49 CFR Part 180

Hazardous materials transportation, Motor carriers, Motor vehicle safety, Packaging and containers, Railroad safety, Reporting and recordkeeping requirements.

In consideration of the foregoing, 49 CFR Chapter I is amended as follows:

PART 107—HAZARDOUS MATERIALS PROGRAM PROCEDURES

1. The authority for part 107 continues to read as follows:

Authority: 49 U.S.C. 5101-5127, 44701; Sec. 212-213, Pub. L. 104-121, 110 Stat. 857; 49 CFR 1.45, 1.53.

2. In Part 107, in Appendix A to Subpart D, in the table in section II, the following entries are revised and designated to read as follows:

Appendix A To Subpart D of Part 107—Guidelines for Civil Penalties

* * * * *

II. List of Frequently Cited Violations

Violation description | Section or cite | Baseline assessment
* * * * * * *
PART 172—REQUIREMENTS
* * * * * * *
Emergency Response Information Requirements (§ 172.600-172.604):
1. Providing or listing incorrect emergency response information with or on a shipping paper | 172.602
a. No significant difference in response |  | $800.
b. Significant difference in response |  | $3,000 to $6,000.
2. Failure to include an emergency response telephone number on a shipping paper | 172.604 | $2,600.
3. Failure to have the emergency response telephone number monitored while a hazardous material is in transportation or listing multiple telephone numbers (without specifying the times for each) that are not monitored 24 hours a day | 172.604 | $1,300.
4. Listing an unauthorized emergency response telephone number on a shipping paper | 172.604 | $2,600 to $4,200.
5. Listing an incorrect or non-working emergency response telephone number on a shipping paper | 172.604 | $1,300.
6. Failure to provide required technical information when the listed emergency response telephone number is contacted | 172.604 | $1,300.
* * * * * * *
PART 173—REQUIREMENTS
* * * * * * *
Reconditioner Requirements (§ 173.28):
1. Representing, marking, or certifying a drum as a reconditioned UN standard packaging, when the drum did not meet a UN standard | 173.28(c), (d) | $6,000 to $10,800.
2. Marking an incorrect registration number on a reconditioned packaging | 173.28(b)(2)(ii)
a. Incorrect number |  | $800.
b. Use of another reconditioner's number |  | $7,200.
3. Failure to properly conduct alternate leakage test | 173.28(b)(2)(i)
a. Improper test |  | $2,000.
b. No test at all |  | $4,000.
4. Representing, marking, or certifying a drum as altered from one standard to another, when the drum had not actually been altered | 173.28(d) | $500.
* * * * * * *
Offeror Requirements (Class 7—Radioactive Materials):
1. Offering a DOT specification 7A packaging without maintaining complete documentation of tests and an engineering evaluation or comparative data | 173.415(a), 173.461
a. Tests and evaluation not performed |  | $8,400.
b. Complete records not maintained |  | $2,000 to $5,000.
2. Offering a Type B packaging without holding a valid NRC approval certificate | 173.471(a)
a. Never having obtained one |  | $2,500.
b. Holding an expired certificate |  | $1,000.
3. Offering a limited quantity of radioactive materials without marking the inner (or single) packaging “Radioactive” | 173.421(a)(4) | $5,000 and up.
4. Offering low specific activity (LSA) radioactive materials consigned as exclusive use without providing instructions for maintenance of exclusive use shipment controls | 173.427(a)(6) | $800.
5. Offering a package that exceeds the permitted limits for surface radiation or transport index | 173.441 | $10,000 and up.
6. Offering a package without determining the level of removable external contamination, or that exceeds the limit for removable external contamination | 173.443 | $5,000 and up.
7. Storing packages of radioactive material in a group with a total transport index more than 50 | 173.447(a) | $5,000 and up.
8. Offering special form radioactive materials without maintaining a complete safety analysis or Certificate of Competent Authority | 173.476(a), (b) | $2,500.
* * * * * * *
PART 178—REQUIREMENTS
Third-Party Packaging Certifiers (General):
1. Issuing a certification that directs the packaging manufacturer to improperly mark a packaging (e.g., steel drum to be marked UN 4G) | 171.2(e), 178.2(b), 178.3(a), 178.503(a) | $500 per item.
Manufacturers (General):
1. Failure to insure a packaging certified as meeting the UN standard is capable of passing the required performance testing | 178.601(b)
a. Packing Group I (includes Section 172.504 table 1 materials) |  | $10,800.
b. Packing Group II |  | $8,400.
c. Packing Group III |  | $6,000.
2. Certifying a packaging as meeting a UN standard when design qualification testing was not performed | 178.601(d)
a. Packing Group I (includes Section 172.504 table 1 materials) |  | $10,800.
b. Packing Group II |  | $8,400.
c. Packing Group III |  | $6,000.
3. Failure to conduct periodic retesting on UN standard packaging (depending on length of time and Packing Group) | 178.601(e) | $2,000 to $10,800.
4. Failure to properly conduct testing for UN standard packaging (e.g., testing with less weight than marked on packaging; drop testing from lesser height than required; failing to condition fiberboard boxes before design test).
a. Design qualification testing | 178.601(d) | $2,000 to $10,800.
b. Periodic retesting | 178.601(e) | $500 to $10,800.
5. Marking, or causing the marking of, a packaging with the symbol of a manufacturer or packaging certifier other than the company that actually manufactured or certified the packaging | 178.2(b), 178.3(a), 178.503(a)(8). | $7,200.
6. Failure to maintain testing records | 178.601(l)
a. Design qualification testing |  | $1,000 to $5,000.
b. Periodic retesting |  | $500 to $2,000.
7. Improper marking of UN certification | 178.503 | $500 per item.
8. Manufacturing DOT specification packaging after October 1, 1994 that is not marked as meeting a UN performance standard | 171.14
a. If packaging does meet DOT specification |  | $3,000.
b. If packaging does not meet DOT specification |  | $6,000 to $10,800.
Manufacturing Requirements—Drums:
1. Failure to properly conduct production leakproofness test.
a. Improper testing | 178.604(b)(1) | $2,000.
b. No testing performed | 173.28 | $2,000 to $10,800.
Manufacturing Requirements—Cylinders:
1. Manufacturing, representing, marking, certifying, or selling a DOT high-pressure cylinder that was not inspected and verified by an approved independent inspection agency | Various | $7,500 to $15,000.
2. Failure to have a registration number or failure to mark the registration number on the cylinder | Various | $800.
3. Marking another company's number on a cylinder | Various | $7,200.
4. Failure to mark the date of manufacture or lot number on a DOT-39 cylinder | 178.65 | $3,000.
5. Failure to have a chemical analysis performed in the US for a material manufactured outside the US/failure to obtain a chemical analysis from the foreign manufacturer | Various | $5,000.
6. Failure to meet wall thickness requirements. | Various | $7,500 to $15,000.
7. Failure to heat treat cylinders prior to testing | Various | $5,000 to $15,000.
8. Failure to conduct a complete visual internal examination | Various | $2,500 to 6,200.
9. Failure to conduct a hydrostatic test, or conducting a hydrostatic test with inaccurate test equipment | Various | $2,500 to 6,200.
10. Failure to conduct a flattening test | Various | $7,500 to $15,000.
11. Failure to conduct a burst test on a DOT-39 cylinder | 178.65(f)(2) | $5,000 to $15,000.
12. Failure to have inspections and verifications performed by an inspector | Various | $7,500 to $15,000.
13. Failure to maintain required inspector's reports | Various
a. No reports at all |  | $5,000.
b. Incomplete or inaccurate reports |  | $1,000 to $4,000.
* * * * * * *

PART 171—GENERAL INFORMATION, REGULATIONS, AND DEFINITIONS

3. The authority citation for part 171 continues to read as follows:

Authority: 49 U.S.C. 5101-5127; 49 CFR 1.53.

§ 171.8 [Amended]

4. In § 171.8, make the following changes:

a. In the definition “NPT”, the wording “See § 171.7(d)(12)” is removed and “See § 171.7” is added in its place.

b. The definition “Occupationally exposed hazmat employee” is removed.

c. In the definition of “P.s.i. or Psi”, the wording “P.s.i. or Psi” is removed and the word “Psi” is added in its place.

d. In the definition of “P.s.i.a. or psia”, the wording “P.s.i.a. or psia” is removed and the word “Psia” is added in its place.

e. In the definition of “P.s.i.g. or psig”, the wording “P.s.i.g. or psig” is removed and the word “Psig” is added in its place.

§ 171.11 [Amended]

5. In § 171.11, in paragraph (d)(13), the wording “requirements of §§ 172.203(1)” is removed and the wording “requirements of §§ 172.203(l)” is added in its place.

§ 171.15 [Amended]

6. In § 171.15, in paragraph (b) introductory text, in the third sentence, the word “Department” is removed and the wording “National Response Center” is added in its place.

PART 172—HAZARDOUS MATERIALS TABLE, SPECIAL PROVISIONS, HAZARDOUS MATERIALS COMMUNICATIONS, EMERGENCY RESPONSE INFORMATION, AND TRAINING REQUIREMENTS

7. The authority citation for part 172 continues to read as follows:

Authority: 49 U.S.C. 5101-5127; 49 CFR 1.53.

8. In Appendix A to § 172.101, in Table 1 to Appendix A, in column 1, make the following changes:

a. The term “p-Phenylenedimine” is removed and “p-Phenylenediamine” is added in its place.

b. The term “Vanadium oxide V205” is removed and “Vanadium oxide V2O5” is added in its place.

c. The term “Zinc cyanide Zn(CN)2” is removed and “Zinc cyanide Zn(CN)2” is added in its place.

d. The term “Zinc phosphide Zn3P2” is removed and “Zinc phosphide Zn3P2” is added in its place.

9. In § 172.102, in paragraph (c)(1), Special provision 44, and in paragraph (c)(3), paragraph a. in Special provision B13, are revised to read as follows:

§ 172.102 Special provisions.

* * * * *

(c) * * *

(1) * * *

Code/Special Provisions

* * * * *

44 The formulation must be prepared so that it remains homogenous and does not separate during transport. Formulations with low nitrocellulose contents and neither showing dangerous properties when tested for their ability to detonate, deflagrate or explode when heated under defined confinement by the appropriate test methods and criteria in the UN Recommendations, Tests and Criteria, nor classed as a Division 4.1 (flammable solid) when tested in accordance with the procedures specified in § 173.124 of this subchapter (chips, if necessary, crushed and sieved to a particle size of less than 1.25 mm) are not subject to the requirements of this subchapter.

* * * * *

(3) * * *

Code/Special Provisions

* * * * *

B13 * * *

a. Packagings equivalent to MC 306 cargo tanks are excepted from the certification, venting, and emergency flow requirements of the MC 306 specification.

* * * * *

§ 172.203 [Amended]

10. In § 172.203, make the following changes:

a. In paragraph (k) introductory text, in the first sentence, the word “table” is removed and the word “Table” is added in its place.

b. In paragraph (k) introductory text, in the last sentence, the word “Column” is removed and the word “column” is added in its place.

c. In paragraph (o)(3), the wording “(see § 173.224(c)(4) of this subchapter) or Division 5.2 (organic peroxide) material (see § 173.225(c)(4) of this subchapter)” is removed and the wording “(see § 173.224(c)(3) of this subchapter) or Division 5.2 (organic peroxide) material (see § 173.225(c)(2) of this subchapter)” is added in its place.

§ 172.301 [Amended]

11. In § 172.301, make the following changes:

a. In paragraph (a)(3) introductory text, the wording “specified in the §§ 172.332 or 172.336,” is removed and the wording “specified in § 172.332 or § 172.336,” is added in its place.

b. In paragraph (b) heading, the word “Technica1” is removed and the word “Technical” is added in its place.

§ 172.512 [Amended]

12. In § 172.512, in paragraph (b) heading, the wording “(640 cubic feet)” is removed and the wording “(640 cubic feet)” is added in its place.

13-14. In § 172.604, in paragraph (c)(2), two shipping names are added in the appropriate alphabetical sequence to read as follows:

§ 172.604 Emergency response telephone number.

* * * * *

(c) * * *

(2) * * *

Vehicle, flammable gas powered

Vehicle, flammable liquid powered

* * * * *

PART 173—SHIPPERS—GENERAL REQUIREMENTS FOR SHIPMENTS AND PACKAGINGS

15. The authority citation for part 173 continues to read as follows:

Authority: 49 U.S.C. 5101-5127, 44701; 49 CFR 1.45, 1.53.

16. In § 173.2a, note ¹ following paragraph (b) table is revised to read as follows:

¹ See § 173.127.

§ 173.2a Classification of a material having more than one hazard.

* * * * *

(b) * * *

Precedence of Hazard Table
[Hazard class and packing group]
* * * * *
¹ See § 173.127.

* * * * *

§ 173.4 [Amended]

17. In § 173.4, in paragraph (a)(6), remove the Note to Paragraph (A)(6) following the introductory text.

§ 173.28 [Amended]

18. In § 173.28, in paragraph (b)(7)(iv)(C), the word “another” is removed and the word “Another” is added in its place.

§ 173.33 [Amended]

19. In § 173.33, in paragraph (c)(1)(iii), the wording “at 115°F. must” is removed and the wording “at 115°F must” is added in its place.

§ 173.34 [Amended]

20. In § 173.34, make the following changes:

a. In paragraph (d)(6), the word “pyroforic” is removed and the word “pyrophoric” is added in its place.

b. In paragraph (e)(13) table, in the fifth entry, the wording “ICC-26-240,1” is removed and the wording “ICC-26-240 ¹,” is added in its place.

c. In paragraph (e)(13) table, in the sixth entry, the wording “ICC-26-2401, ICC-26-3001” is removed and the wording “ICC-26-240 ¹, ICC-26-300 ¹” is added in its place.

§ 173.50 [Amended]

21. In § 173.50, in paragraph (b)(6), the wording “Division 1.6 ²” is removed and the wording “Division 1.6 ²” is added in its place.

§ 173.59 [Amended]

22. In § 173.59, make the following changes:

a. In the definition Cases, cartridge, empty with primer, the wording “in which only the explosive component is the primer” is removed and the wording “in which the only explosive component is the primer” is added in its place.

b. In the definition Detonator assemblies, non-electric, for blasting, in the last sentence, the wording “Detonators, nonelectric” is removed and the wording “Detonators, non-electric” is added in its place.

23. In § 173.62, paragraph (a) is revised, in paragraph (c), in the Table of Packing Methods, packing instruction 137 is revised to read as follows:

§ 173.62 Specific packaging requirements for explosives.

(a) Except as provided in § 173.7 of this subchapter, when the § 172.101 Table specifies that an explosive must be packaged in accordance with this section, only packagings which conform to the provisions of paragraphs (b) and (c) of this section or § 173.7(e) of this subchapter and the applicable requirements in §§ 173.60 and 173.61 may be used unless otherwise approved by the Associate Administrator.

* * * * *

(c) * * *

Table of Packing Methods
Packing instruction | Inner packagings | Intermediate packagings | Outer packagings
* * * * * * *
137 PARTICULAR PACKING REQUIREMENTS OR EXCEPTIONS For UN 0059, 0439, 0440 and 0441, when the shaped charges are packed singly, the conical cavity must face downwards and the package marked “THIS SIDE UP”. When the shaped charges are packed in pairs, the conical cavities must face inwards to minimize the jetting effect in the event of accidental initiation | Bags plastics Boxes fiberboard Tubes fiberboard metal plastics Dividing partitions in the outer packagings | Not necessary | Boxes. steel (4A). aluminum (4B). wood, natural, ordinary (4C1). wood, natural, sift proof walls (4C2). plywood (4D). reconstituted wood (4F). fiberboard (4G).
* * * * * * *

§ 173.133 [Amended]

24. In § 173.133, in paragraph (a)(2)(i), in note 2 at the end of the table, the reference “172.203(m)(3)” is removed and the reference “172.203(m)(2)” is added in its place.

§ 173.166 [Amended]

25. In § 173.166, in paragraph (a), in the last sentence, the wording “seat-belt pre-tensioner” is removed and the italicized wording “seat-belt pre-tensioner” is added in its place.

§ 173.181 [Amended]

26. In § 173.181, in paragraph (a)(2), in the parenthetical at the end of the paragraph, the wording “(See §§ 173.34(d)(7) and 177.838(h) of this subchapter.)” is removed and the wording “(See §§ 173.34(d)(6) and 177.838(h) of this subchapter.)” is added in its place.

§ 173.194 [Amended]

27. In § 173.194, in paragraph (b)(1), in the second sentence, the wording “130 mm” is removed and the wording “0.30 mm” is added in its place.

§ 173.249 [Amended]

28. In § 173.249, make the following changes:

a. In the introductory text, the last word “table” is removed and the word “Table” is added in its place.

b. In paragraph (a), the specification “105A-300W” is removed and the specification “105A300W” is added in its place.

§ 173.301 [Amended]

29. In § 173.301, in paragraph (d)(3), in the first sentence, the word “Difluoroethylene” is removed and the word “difluoroethylene” is added in its place.

§ 173.315 [Amended]

30. In § 173.315, in paragraph (l)(6), the wording “by representative” is removed and the wording “by a representative” is added in its place.

§ 173.319 [Amended]

31. In § 173.319, in paragraph (d)(2), in the Pressure Control Valve or Relief Valve Setting Table, in the first column, in the last entry, the wording “(see § 180.507(a)(3) of this subchapter)” is removed and the wording “(see § 180.507(b)(3) of this subchapter)” is added in its place.

§ 173.403 [Amended]

32. In § 173.403, make the following changes:

a. In the definition of “Maximum normal operating pressure”, add a period to the end of the sentence.

b. In the definition of “Normal form Class 7 (radioactive) material means”, the word “means” is removed and the word “means” is added in its place.

§ 173.433 [Amended]

33. In § 173.433, in paragraph (b), the expression “A ¹” is removed and the expression “A 1” is added in its place.

§ 173.435 [Amended]

34. In § 173.435, in the table, make the following changes:

a. For the entry “Am-242m”, in the sixth column, the expression “5.4.1 × 10⁻³” is removed and the expression “5.41 × 10⁻³” is added in its place.

b. For the entry “Pa-231”, in the fifth column, the expression “6 × 10⁻⁵” is removed and the expression “6 × 10⁻⁵” is added in its place.

c. For the entry “Si-32”, in the fourth column, the entry “10800” is removed and the entry “1080” is added in its place.

d. For the entry “Sm-147”, in the seventh column, the expression “8.510⁻¹⁰” is removed and the expression “8.5 × 10⁻¹⁰” is added in its place.

e. For the entry “Sm-147”, in the last column, the expression “2.3;10⁻⁸” is removed and the expression “2.3 × 10⁻⁸” is added in its place.

f. For the entry “Sm-151”, in the seventh column, the expression “9.710⁻¹” is removed and the expression “9.7 × 10⁻¹” is added in its place.

g. For the entry “Sn-126”, in the seventh column, the expression “1.010-³” is removed and the expression “1.0 × 10⁻³” is added in its place.

h. For the entry “Sn-126”, in the last column, the expression “2.810⁻²” is removed and the expression “2.8 × 10⁻²” is added in its place.

i. For the entry “Tb-157”, in the seventh column, the expression “5.610⁻¹” is removed and the expression “5.6 × 10⁻¹” is added in its place.

j. For the entry “Tb-158”, in the seventh column, the expression “5.610¹” is removed and the expression “5.6 × 10⁻¹” is added in its place.

§ 173.469 [Amended]

35. In § 173.469, the following changes are made:

a. In paragraph (c)(1)(v), the expression “50 °C ± 5 (122 °F ± 9°)” is removed and the expression “50 °C ± 5° (122 °F ± 9°)” is added in its place.

b. In paragraphs (d)(1) and (d)(2), the wording “ISO 2919-1980(e), ‘Sealed Radioactive Sources Classification’ ” is removed and the wording “ISO 2919, “Sealed Radioactive Sources-Classification” (see § 171.7 of this subchapter)” is added in its place each time it appears.

PART 175—CARRIAGE BY AIRCRAFT

36. The authority citation for part 175 continues to read as follows:

Authority: 49 U.S.C. 5101-5127; 49 CFR 1.53.

37. In § 175.30, paragraphs (d)(1) and (d)(2) are revised to read as follows:

§ 175.30 Accepting and inspecting shipments.

* * * * *

(d) * * *

(1) An ORM-D material packed in a freight container and offered for transportation by one consignor; or

(2) Dry ice (carbon dioxide, solid).

* * * * *

§ 175.31 [Amended]

38. In § 175.31, in paragraph (b)(1), the word “Package” is removed and the word “Packages” is added in its place.

§ 175.75 [Amended]

39. In § 175.75, in paragraph (a)(1), at the end of the sentence, the colon is removed and a semicolon is added in its place.

§ 175.90 [Amended]

40. In § 175.90, in paragraph (d)(2), the word “safety” is removed and the word “safely” is added in its place.

PART 176—CARRIAGE BY VESSEL

41. The authority citation for part 176 continues to read as follows:

Authority: 49 U.S.C. 5101-5127; 49 CFR 1.53.

42. In § 176.2, the definition “Commandant (G-MTH)” is removed and the following definition is added in the appropriate alphabetical sequence to read as follows:

§ 176.2 Definitions.

* * * * *

Commandant (G-MSO), USCG means the Chief, Office of Operating and Environmental Standards, United States Coast Guard, Washington DC 20593-0001.

* * * * *

§ 176.30 [Amended]

43. In § 176.30, in paragraph (a)(5) introductory text, the semicolon is removed and a colon is added in its place.

§ 176.63 [Amended]

44. In § 173.63, in paragraph (b), in the second sentence, add a comma between the words “hatch” and “companionway”.

§ 176.74 [Amended]

45. In § 176.74, in paragraph (c), the parenthetical “(except Class 9 (miscellaneous hazardous) materials material)” is removed and the parenthetical “(except Class 9 (miscellaneous hazardous material) materials” is added in its place.

§ 176.76 [Amended]

46. In § 176.76, make the following changes:

a. In paragraph (d), the parenthetical “(See § 176.79.)” is removed.

b. In paragraph (f)(2), in the first sentence, the wording “Flammable liquids or gases, Combustible” is removed and the wording “flammable liquids or gases, combustible” is added in its place.

47. In § 176.80, revise the section heading to read as follows:

§ 176.80 Applicability.

* * * * *

§ 176.83 [Amended]

48. In § 176.83, make the following changes:

a. In paragraphs (a)(6), (a)(7) introductory text, and (b) introductory text, the wording “§ 172.101 table” is removed and the wording “§ 172.101 Table” is added in its place.

b. In paragraph (c)(2)(iii), the wording “(i.e., in different compartments accepted” is removed and the wording “(i.e., in different compartments) is acceptable” is added in its place.

c. In paragraph (c)(2)(iv), in the last sentence, the wording “stowed “on deck, and” is removed and the wording “stowed “on deck”, and” is added in its place.

§ 176.84 [Amended]

49. In § 176.84, make the following changes:

a. In paragraph (a), the wording “§ 172.101 table” is removed and the wording “§ 172.101 Table” is added in its place.

b. In paragraph (c)(2), in the text preceding the table, the wording “§ 172.101 table” is removed and the wording “§ 172.101 Table” is added in its place.

50. In § 176.88, the section heading is revised to read as follows:

§ 176.88 Applicability.

* * * * *

51. In § 176.95, the section heading is revised to read as follows:

§ 176.95 Applicability.

* * * * *

52. In § 176.112, the section heading is revised to read as follows:

§ 176.112 Applicability.

* * * * *

§ 176.133 [Amended]

53. In § 176.133, the period between the parenthetical “(8.2 feet)” and the word “whatever” is removed and a comma is added in its place.

§ 176.136 [Amended]

54. In § 176.136 make the following changes:

a. In paragraph (b), in the first sentence, the comma between the words “living” and “accommodation” is removed.

b. In paragraph (c), in the last sentence, the word “pening” is removed and the word “opening” is added in its place.

§ 176.137 [Amended]

55. In § 176.137, in paragraph (c), the comma is removed between the expression “3.1 m³” and the parenthetical “(110 cubic feet)”.

§ 176.194 [Amended]

56. In § 176.194, in paragraph (f), in the last sentence, the period between the words “deck” and “a” is removed and a comma is added in its place.

§ 176.210 [Amended]

57. In § 176.210, the wording “radiant heat which, including the direct rays of the sun by” is removed and the wording “radiant heat, including the direct rays of the sun, by” is added in its place.

§ 176.340 [Amended]

58. In § 176.340, in paragraph (c), the wording “Commandant, USCG (G-MSO)” is removed and the wording “Commandant (G-MSO), USCG” is added in its place.

§ 176.415 [Amended]

59. In § 176.415, in paragraph (c)(4), in the last sentence, the word “spice” is removed and the word “splice” is added in its place.

PART 177—CARRIAGE BY PUBLIC HIGHWAY

60. The authority citation for part 177 continues to read as follows:

Authority: 49 U.S.C. 5101-5127; 49 CFR 1.53.

§ 177.840 [Amended]

61. In § 177.840, in paragraph (e), make the following changes:

a. A colon is added immediately following the word “equipped”.

b. The word “and” is added immediately following the semicolon at the end of paragraph (e)(1).

§ 177.848 [Amended]

62. In § 177.848, in paragraph (g)(3)(iv), the wording “means § 177.835(g)” is removed and the wording “means ‘see § 177.835(g)’ ” is added in its place.

PART 178—SPECIFICATIONS FOR PACKAGINGS

63. The authority citation for part 178 continues to read as follows:

Authority: 49 U.S.C. 5101-5127; 49 CFR 1.53.

§ 178.35 [Amended]

64. In § 178.35, in paragraph (f)(1)(iv), in the expressions following the introductory text, the wording “xy = symbol of manufacturer” is removed and the wording “XY = symbol of manufacturer” is added in its place.

§ 178.36 [Amended]

65. In § 178.36, in paragraph (j), in the first sentence, the wording “out or each” is removed and the wording “out of each” is added in its place.

§ 178.38 [Amended]

66. In § 178.38, in paragraph (j), in the first sentence, the wording “out or each” is removed and the wording “out of each” is added in its place.

§ 178.39 [Amended]

67. In § 178.39, in paragraph (j), in the first sentence, the wording “out or each” is removed and the wording “out of each” is added in its place.

§ 178.44 [Amended]

68. In § 178.44, in paragraph (l), in the first sentence, the wording “out or each” is removed and the wording “out of each” is added in its place.

§ 178.45 [Amended]

69. In § 178.45, in paragraph (j)(4), in the first sentence, the wording “10 mm &times” is removed and the wording “10 mm times” is added in its place.

§ 178.50 [Amended]

70. In § 178.50, in paragraph (d) introductory text, in the fourth sentence, the wording “18 inch long” is removed and the wording “18 inches long” is added in its place.

§ 178.51 [Amended]

71. In § 178.51, in paragraph (g)(1), in the first sentence, the wording “table I” is removed and the wording “table 1” is added in its place.

§ 178.318-3 [Amended]

72. In § 178.318-3, the wording “prescribed in § 173.24 of this subchapter” is removed and the wording “prescribed in § 178.2(b)” is added in its place.

§ 178.813 [Amended]

73. In § 178.813, make the following changes:

a. In paragraph (a), the wording “intended to contain liquids or intended to contain solids that are loaded or discharged under pressure” is removed and the wording “intended to contain solids that are loaded or discharged under pressure or intended to contain liquids” is added in its place.

b. In paragraph (d), the wording “intended to contain liquids or intended to contain solids that are loaded or discharged under pressure” is removed and the wording “intended to contain solids that are loaded or discharged under pressure or intended to contain liquids” is added in its place.

§ 178.814 [Amended]

74. In § 178.814, in paragraph (a), the wording “intended to contain liquids or intended to contain solids loaded or discharged under pressure” is removed and the wording “intended to contain solids that are loaded or discharged under pressure or intended to contain liquids” is added in its place.

PART 179—SPECIFICATIONS FOR TANK CARS

75. The authority citation for part 179 continues to read as follows:

Authority: 49 U.S.C. 5101-5127; 49 CFR 1.53.

§ 179.2 [Amended]

76. In § 179.2, in the definition of “NPT”, the word “Tape” is removed and the word “Taper” is added in its place.

§ 179.100 [Amended]

77. In § 179.100 heading, the word “specification” is removed and the word “specifications” is added in its place.

§ 179.100-7 [Amended]

78. In § 179.100-7, in paragraph (b) table, in column 2 heading, the wording “welded condition ³ ⁶” is removed and the wording “welded condition ³ ⁴” is added in its place.

§ 179.100-14 [Amended]

79. In § 179.100-14, in paragraph (a) introductory text, in the last sentence, the period following the word “requirements” is removed and a colon is added in its place.

§ 179.100-18 [Amended]

80. In § 179.100-18, in paragraph (c), in the last sentence, the word “specifications for Tank Cars, appendix W” is removed and the wording “Specifications for Tank Cars, appendix W (See § 171.7 of this subchapter)” is added in its place.

§ 179.101 [Amended]

81. The second § 179.100, which immediately follows § 179.100-20, is redesignated as “§ 179.101”.

§ 179.101-1 [Amended]

82. In § 179.101 table, in note 6, the title “AAR specifications for tank cars, Appendix E, E4.01” is removed and the title “AAR Specifications for Tank Cars, appendix E, E4.01 (See § 171.7 of this subchapter)” is added in its place.

§ 179.102-4 [Amended]

83. In § 179.102-4, in paragraph (a) introductory text, the wording “paragraph (b)(2) of this section” is removed and the wording “paragraph (a)(2) of this section” is added in its place.

§ 179.103-5 [Amended]

84. In § 179.103-5, in paragraph (b)(4), in the third sentence, the measurement “15inches” is removed and the measurement “15 inches” is added in its place.

§ 179.200-1 [Amended]

85. In § 179.200-1 heading, the wording “requirements of §§ 179.200, 179.201, and when applicable § 179.202” is removed and the wording “requirements of §§ 179.200 and 179.201” is added in its place.

§ 179.200-7 [Amended]

86. In § 179.200-7, make the following changes:

a. In paragraph (c) table, in column 2 heading, the wording “welded condition 3 6” is removed and the wording “welded condition 3 4” is added in its place.

b. In paragraph (h), in the last sentence, the word “Specification” is removed and the word “Specifications” is added in its place, and the wording “(See § 171.7 of this subchapter)” is added after the wording “M4.05”.

§ 179.200-9 [Amended]

87. In § 179.200-9, make the following changes:

a. In paragraph (a), in the first sentence, the section “§ 179.2011-1” is removed and the section “§ 179.201-1” is added in its place.

b. In paragraph (b), in the first sentence, the word “construction” is removed and the word “constructing” is added in its place.

§ 179.200-11 [Amended]

88. In § 179.200-11, the reference “§ 179.201.1” is removed and the reference § 179.201-1” is added in its place.

§ 179.200-14 [Amended]

89. In § 179.200-14, make the following changes:

a. In paragraph (c), in the third sentence, the word “Specification” is removed and the word “Specifications” is added in its place.

b. In paragraph (c), in the last sentence, the measurement “1-inch” is removed and the measurement “1 inch” is added in its place.

c. In paragraph (e)(2), in the first sentence, the wording “diameter of the dome shall” is removed and the wording “diameter of the dome shell” is added in its place.

§ 179.201-3 [Amended]

90. In § 179.201-3, in paragraphs (a)(1) and (a)(2), the degree symbol “°” is added immediately following the number “45” each time it appears.

§ 179.201-4 [Amended]

91. In § 179.201-4, the word “specification” is removed and the word “Specification” is added in its place.

§ 179.201-6 [Amended]

92. In § 179.201-6, in paragraph (d), the wording “DOT 103ANW” is removed and the wording “DOT-103ANW” is added in its place.

§ 179.220-7 [Amended]

93. In § 179.220.7, in paragraph (c) table, make the following changes:

a. In column 2 heading, the wording “welded condition 3 6” is removed and the wording “welded condition 3 4” is added in its place.

b. Notes ⁴ and ⁵ are removed.

c. Note ⁶ is redesignated as Note ⁴.

§ 179.300-6 [Amended]

94. In § 179.300-6, in paragraph (a), in the definitions following the formula, in “S”, the wording “as prescribed § 179.300-7” is removed and the wording “as prescribed in § 179.300-7” is added in its place.

§ 179.400-4 [Amended]

95. In § 179.400-4, in the definitions following the formula in paragraph (a)(5), make the following changes:

a. In definition “90”, a semicolon is added following the period.

b. In definition “ts”, a semicolon is added following the period.

§ 179.400-17 [Amended]

96. In § 179.400-17, in paragraph (a)(1), a period is added at the end of the last sentence following the word “jacketed”.

§ 179.500-3 [Amended]

97. In § 179.500-3, in paragraph (d), the wording “at 130 F” is removed and the wording “at 130 °F” is added in its place.

PART 180—CONTINUING QUALIFICATION AND MAINTENANCE OF PACKAGINGS

98. The authority citation for part 180 continues to read as follows:

Authority: 49 U.S.C. 5101-5127; 49 CFR 1.53.

§ 180.352 [Amended]

99. In § 180.352, in paragraph (b)(1), the wording “intended to contain liquids or solids that are loaded or discharged under pressure” is removed and the wording “intended to contain solids that are loaded or discharged under pressure or intended to contain liquids” is added in its place.

§ 180.415 [Amended]

100. In § 180.415, in paragraph (b), in the last sentence, the wording “cargo received” is removed and the wording “cargo tank received” is added in its place.

§ 180.511 [Amended]

101. In § 180.511, in paragraph (e), the wording “the lining or conforms” is removed and the wording “the lining or coating conforms” is added in its place.

§ 180.519 [Amended]

102. In § 180.519, in paragraph (b)(1), in the second sentence, the word “far” is removed and the word “for” is added in its place.

Issued in Washington, DC, on August 15, 2001, under authority delegated in 49 CFR part 1.
Stacey L. Gerard,
Acting Deputy Administrator.

[FR Doc. 01-21003 Filed 8-27-01; 8:45 am]

BILLING CODE 4910-60-P